DEPARTMENT OF COMMERCE

International Trade Administration

[A-580-874]

Certain Steel Nails From the Republic of Korea: Preliminary Results of Antidumping Duty Administrative Review and Partial Rescission of Antidumping Duty Administrative Review; 2016-2017

AGENCY: Enforcement and Compliance, International Trade Administration, Department of Commerce.

SUMMARY: The Department of Commerce (Commerce) preliminarily determines that Daejin Steel Co. (Daejin), Koram Inc. (Koram), and Korea Wire Co., Ltd. (Kowire), producers/exporters of merchandise subject to this administrative review, made sales of subject merchandise at less than normal value. The period of review (POR) is July 1, 2016, through June 30, 2017.

DATES: Applicable July 12, 2018.

FOR FURTHER INFORMATION CONTACT: Robert Galantucci (Kowire), Maliha Khan (Daejin), or Trisha Tran (Koram), AD/CVD Operations, Office IV, Enforcement and Compliance, International Trade Administration, U.S. Department of Commerce, 1401 Constitution Avenue NW, Washington, DC 20230; telephone: (202) 482-2923, (202) 482-0895, or (202) 482-4852, respectively.

SUPPLEMENTARY INFORMATION:

Background

On July 3, 2017, Commerce published in the Federal Register a notice of opportunity to request an administrative review of the antidumping duty (AD) order on certain steel nails (steel nails) from Korea.¹ On July 31, 2017, Daejin ² and Kowire ³ each requested an administrative review, and Mid Continent Steel & Wire, Inc.⁴ (the petitioner) requested an administrative review of 206 producers and/or exporters, including Daejin, Koram, Koram Steel Co. Ltd., and Kowire. On September 28, 2017, the petitioner withdrew its administrative review request with respect to 202 of the 206 companies identified as producers/exporters in the petitioner's July 31, 2017 letter. The petitioner maintained its administrative review request with respect to: Daejin, Koram, Koram Steel Co. Ltd., and Kowire. As such, Commerce issued its AD questionnaire to these companies on October 10, 2017.⁵

¹ See Antidumping or Countervailing Duty Order, Finding, or Suspended Investigation; Opportunity to Request Administrative Review, 82 FR 30833 (July 3, 2017).

² See Letter from Daejin, “Administrative Review of the Antidumping Duty Order on Certain Steel Nails from Korea—Request for Review,” dated July 31, 2017.

³ See Letter from Kowire, “Steel Nails from the Republic of Korea—Request for Administrative Review,” dated July 31, 2017.

⁴ See Letter from the petitioner, “Certain Steel Nails from Korea: Request for Administrative Reviews,” dated July 31, 2017.

⁵ See Commerce's Letter, “Administrative Review of Certain Steel Nails from Korea: Antidumping Duty Questionnaire,” dated October 10, 2017.

Partial Rescission of Administrative Review

Commerce received timely requests to conduct an administrative review of certain exporters covering the POR. Because the petitioner timely withdrew its request for review of all of the companies listed in the Initiation Notice, with the exception of Daejin, Koram, Koram Steel Co. Ltd., and Kowire, we are rescinding this administrative review with respect to the remaining companies on which we initiated a review pursuant to 19 CFR 351.213(d)(1). For a list of the companies for which we are rescinding this review, see Appendix II to this notice.

As discussed in the Preliminary Decision Memorandum, we preliminarily determine that Koram is the successor-in-interest to Koram Steel Co. Ltd.; therefore, we will not calculate a separate dumping margin for Koram Steel Co., Ltd.⁶ Accordingly, the three companies subject to the instant review are: Daejin, Koram, and Kowire.

⁶ See Memorandum, “Decision Memorandum for Preliminary Results of the 2016-2017 Antidumping Duty Administrative Review of Certain Steel Nails from the Republic of Korea,” dated concurrently with, and hereby adopted by this notice (Preliminary Decision Memorandum) at 2.

The Preliminary Decision Memorandum is a public document and is on file electronically via Enforcement and Compliance's Antidumping and Countervailing Duty Centralized Electronic Service System (ACCESS). ACCESS is available to registered users at http://access.trade.gov and available to all parties in the Central Records Unit, room B8024 of the main Department of Commerce building. In addition, a complete version of the Preliminary Decision Memorandum can be accessed directly on the internet at http://enforcement.trade.gov/frn/. The signed and electronic versions of the Preliminary Decision Memorandum are identical in content.

Scope of the Order

The merchandise covered by this order is certain steel nails having a nominal shaft length not exceeding 12 inches.⁷ Merchandise covered by the order is currently classified under the Harmonized Tariff Schedule of the United States (HTSUS) subheadings 7317.00.55.02, 7317.00.55.03, 7317.00.55.05, 7317.00.55.07, 7317.00.55.08, 7317.00.55.11, 7317.00.55.18, 7317.00.55.19, 7317.00.55.20, 7317.00.55.30, 7317.00.55.40, 7317.00.55.50, 7317.00.55.60, 7317.00.55.70, 7317.00.55.80, 7317.00.55.90, 7317.00.65.30, 7317.00.65.60 and 7317.00.75.00. Certain steel nails subject to this order also may be classified under HTSUS subheadings 7907.00.60.00, 8206.00.00.00 or other HTSUS subheadings. While the HTSUS subheadings are provided for convenience and customs purposes, the written description of the scope of this order is dispositive. For a full description of the scope of the order, see the Preliminary Decision Memorandum.⁸

⁷ The shaft length of certain steel nails with flat heads or parallel shoulders under the head shall be measured from under the head or shoulder to the tip of the point. The shaft length of all other certain steel nails shall be measured overall.

⁸ See Preliminary Decision Memorandum.

Methodology

Commerce is conducting this review in accordance with section 751(a) of the Tariff Act of 1930, as amended (the Act). Export price is calculated in accordance with section 772 of the Act. Normal value is calculated in accordance with section 773 of the Act.

For a full description of the methodology underlying our conclusions, see the Preliminary Decision Memorandum.⁹ A list of topics included in the Preliminary Decision Memorandum is included as Appendix I to this notice.

⁹ Id.

Preliminary Results of Review

As a result of this review, we preliminarily determine the following weighted-average dumping margins for the period July 1, 2016, through June 30, 2017:

Exporter and/or producer | Weighted- average dumping margin (percent)
Daejin Steel Co | 3.02
Koram Inc | 10.59
Korea Wire Co., Ltd | 1.10

Assessment Rates

Upon completion of the administrative review, Commerce shall determine, and U.S. Customs and Border Protection (CBP) shall assess, antidumping duties on all appropriate entries. Commerce intends to issue assessment instructions to CBP 15 days after the date of publication of the final results of this review.

For any individually examined respondents whose weighted-average dumping margin is above de minimis (i.e., 0.50 percent), we will calculate importer-specific ad valorem duty assessment rates based on the ratio of the total amount of dumping calculated for the importer's examined sales to the total entered value of those same sales in accordance with 19 CFR 351.212(b)(1).¹⁰ For entries of subject merchandise during the POR produced by each respondent for which it did not know its merchandise was destined for the United States, we will instruct CBP to liquidate un-reviewed entries at the all-others rate if there is no rate for the intermediate company involved in the transaction.¹¹ We will instruct CBP to assess antidumping duties on all appropriate entries covered by this review when the importer-specific assessment rate calculated in the final results of this review is above de minimis. Where either the respondent's weighted-average dumping margin is zero or de minimis, or an importer-specific assessment rate is zero or de minimis, we will instruct CBP to liquidate the appropriate entries without regard to antidumping duties.

¹⁰ In these preliminary results, Commerce applied the assessment rate calculation methodology adopted in Antidumping Proceedings: Calculation of the Weighted-Average Dumping Margin and Assessment Rate in Certain Antidumping Proceedings: Final Modification, 77 FR 8101 (February 14, 2012).

¹¹ See Antidumping and Countervailing Duty Proceedings: Assessment of Antidumping Duties, 68 FR 23954 (May 6, 2003).

For the 202 companies for which this review is rescinded, antidumping duties will be assessed at rates equal to the cash deposit of estimated antidumping duties in effect at the time of entry, or withdrawal from warehouse, for consumption, in accordance with 19 CFR 351.212(c)(1)(i). Commerce intends to issue appropriate assessment instructions directly to CBP 15 days after publication of this notice. The final results of this review shall be the basis for the assessment of antidumping duties on entries of merchandise covered by the final results of this review and for future deposits of estimated duties, where applicable.

Cash Deposit Requirement

The following deposit requirements will be effective upon publication of the notice of the final results of administrative review for all shipments of steel nails from Korea entered, or withdrawn from warehouse, for consumption on or after the date of publication of the final results of this administrative review, as provided by section 751(a)(2)(C) of the Act: (1) The cash deposit rate for the companies under review will be the rate established in the final results of this review (except, if the rate is zero or de minimis, no cash deposit will be required); (2) for merchandise exported by manufacturers or exporters not covered in this review but covered in a prior segment of the proceeding, the cash deposit rate will continue to be the company-specific rate published for the most recently completed segment of this proceeding in which the manufacturer or exporter participated; (3) if the exporter is not a firm covered in this review, a prior review, or the less-than-fair-value investigation, but the manufacturer is, the cash deposit rate will be the rate established for the most recently completed segment of the proceeding for the manufacturer of the merchandise; and (4) the cash deposit rate for all other manufacturers or exporters will continue to be 11.80 percent ad valorem, the all-others rate established in the less-than-fair value investigation.¹²

¹² See Certain Steel Nails from the Republic of Korea: Final Determination of Sales at Less Than Fair Value, 80 FR 28955 (May 20, 2015).

Disclosure and Public Comment

Commerce intends to disclose the calculations used in our analysis to interested parties in this review within five days of the date of publication of this notice in accordance with 19 CFR 351.224(b). Interested parties are invited to comment on the preliminary results of this review. Pursuant to 19 CFR 351.309(c)(1)(ii), interested parties may submit case briefs no later than 30 days after the date of publication of this notice. Rebuttal briefs, limited to issues raised in the case briefs, may be filed no later than five days after the time limit for filing case briefs.¹³ Parties who submit case briefs or rebuttal briefs in this proceeding are requested to submit with each brief: (1) A statement of the issues, (2) a brief summary of the argument, and (3) a table of authorities.¹⁴ Executive summaries should be limited to five pages total, including footnotes.¹⁵ Case and rebuttal briefs should be filed using ACCESS.¹⁶

¹³ See 19 CFR 351.309(d)(1).

¹⁴ See 19 CFR 351.309(c)(2) and (d)(2).

¹⁵ Id.

¹⁶ See 19 CFR 351.303.

Pursuant to 19 CFR 351.310(c), any interested party may request a hearing within 30 days of the publication of this notice in the Federal Register. If a hearing is requested, Commerce will notify interested parties of the hearing schedule. Interested parties who wish to request a hearing, or to participate if one is requested, must submit a written request to the Assistant Secretary for Enforcement and Compliance, filed electronically via ACCESS within 30 days after the date of publication of this notice. Requests should contain: (1) The party's name, address, and telephone number; (2) the number of participants; and (3) a list of the issues to be discussed. Issues raised in the hearing will be limited to those raised in the respective case and rebuttal briefs.

We intend to issue the final results of this administrative review, including the results of our analysis of issues raised by the parties in the written comments, within 120 days of publication of these preliminary results in the Federal Register, unless otherwise extended.¹⁷

¹⁷ See section 751(a)(3)(A) of the Act.

Notification to Importers

This notice also serves as a preliminary reminder to importers of their responsibility under 19 CFR 351.402(f) to file a certificate regarding the reimbursement of antidumping duties prior to liquidation of the relevant entries during this review period. Failure to comply with this requirement could result in Commerce's presumption that reimbursement of antidumping duties occurred and the subsequent assessment of double antidumping duties.

Notification to Interested Parties

We are issuing and publishing this notice in accordance with sections 751(a)(1) and 777(i)(1) of the Act and 19 CFR 351.221(b)(4).

Dated: July 5, 2018.
Gary Taverman,
Deputy Assistant Secretary for Antidumping and Countervailing Duty Operations, performing the non-exclusive functions and duties of the Assistant Secretary for Enforcement and Compliance.

Appendix I—List of Topics Discussed in the Preliminary Decision Memorandum

I. Summary

II. Background

III. Scope of the Order

IV. Rescission of Review, In Part

V. Affiliation

VI. Duty Absorption Inquiry

VII. Discussion of the Methodology

A. Comparisons to Normal Value

B. Product Comparisons

C. Date of Sale

D. Level of Trade

E. Export Price

F. Normal Value

G. Successor-In-Interest Determination—Koram

VIII. Currency Conversions

IX. Recommendation

Appendix II

Airlift Trans Oceanic Pvt. Ltd.

Aironware Enterprise (China) Ltd.

AM Global Shipping Lines

Ansing Rich Tech & Trade Co. Ltd.

Apex Maritime Co., Ltd.

Apex Shipping Co. Ltd.

Astrotech Steels Private Limited

Baoding Jieboshun Trading Corp. Ltd.

Beijing Jin Heung Co. Ltd.

Beijing Kang Jie Kong Int'l Cargo Co. Ltd.

Beijing Qin Li Jeff Trading Co., Ltd.

Bestbond International Limited

Bipex Co., Ltd.

Bollore Logistics Co. Ltd.

Bolung International Trading Co., Ltd.

Bon Voyage Logistics Inc.

Bonuts Hardware Logistics Co. Ltd.

Brilliant Group Logistics Corp.

C&D International Freight Forwarding

C.H. Robinson Freight Services Ltd.

Caesar International Logistics Co. Ltd.

Cana (Rizhao) Hardware Co. Ltd.

Cangzhou Xinqiao Int'l Trade Co. Ltd.

Capital Freight Management Inc.

Cargo Services Co. Ltd.

Caribbean International Co. Ltd.

Casia Global Logistics Co Ltd

China Container Line Northern Ltd.

China Dinghao Co., Ltd.

China International Freight Co., Ltd.

China Staple Enterprise Co. Ltd

Chinatrans International Limited

Chongqing Welluck Trading Co. Ltd.

Chosun Shipping Co. Ltd.

CJ Korea Express Corp.

CKX Co. Ltd.

Cohesion Freight (HK) Ltd.

Consolidated Shipping Services L.L.C.

Crelux International Co. Ltd.

Dahnay Logistics Private Ltd.

Dalian Sunny International Logistics

DCS Dah Star Logistics Co., Ltd.

De Well Container Shipping Inc.

Dezhou Hualude Hardware Products Co., Ltd.

Dong E Fuqiang Metal Products Co. Ltd.

DT Logistics Hong Kong Ltd

Duo-Fast Korea Co., Ltd.

Dynamic Network Container Line Limited

E&E Transport International Co., Ltd.

ECI Taiwan Co., Ltd.

Eco Steel Co., Ltd.

Ejem Brothers Limited

Eumex Line Shenzhen Limited

Eunsan Shipping & Aircargo Co., Ltd.

Euroline Global Co., Ltd.

Expeditors Korea Ltd.

Faithful Engineering Products Co. Ltd.

Fastgrow International Co.

Fastic Transportation Co., Ltd.

Flyjac Logistics Pvt. Ltd.

G Link Express Logistics (Korea) Ltd

GCL Logistics Co., Ltd.

Global Container Line, Inc.

Globelink Weststar Shipping

Glovis America

Grandee Logistics Ltd.

Hanbit Logistics Co., Ltd.

Hanjin Logistics India Private Ltd.

Hanmi Staple Co., Ltd.

Hanon Systems

Hebei Minmetals Co., Ltd.

Hebei Tuohua Metal Products Co., Ltd.

Hecny Shipping Ltd.

Hecny Transportation Ltd.

Hengtuo Metal Products Co Ltd

High Link Line Inc.

Hong Kong Hong Xing Da Trading Co. Ltd.

Hongyi Hardware Products Co., Ltd.

Honour Lane Logistics Company

Honour Lane Shipping Limited

Huanghua Yingjin Hardware Products Co., Ltd.

Hyundai Logistics Co. Ltd.

Inmax Industries Sdn. Bhd.

Integral Building Products Inc.

International Maritime and Aviation LLC

JAS Forwarding Co. Ltd.

Je-il Wire Production Co., Ltd.

Jeil Tacker Co. Ltd.

Jiangsu Soho Honry Import Export Co. Ltd.

Jiaxing Slk Import & Export Co., Ltd.

Jinhai Hardware Co., Ltd.

Jinheung Steel Corporation

Jinkaiyi International Industry Co.

Jinsco International Corp.

Joo Sung Sea Air Co., Ltd.

K Logistics Corp.

K Logistics Inc.

Kasy Logistics (Tianjin) Co., Ltd.

King Shipping Company

Korchina International Logistics Co. Ltd.

Korea Total Logistics Co. Ltd.

Kousa International Logistics Co. Ltd.

Kuehne Nagel Ltd.

LF Logistics Co. Ltd.

Linyi Flying Arrow Imp. & Exp. Ltd.

MR Forwarding China Ltd.

Maxspeed International Transport Co. Ltd.

Mingguang Ruifeng Hardware Products Co., Ltd.

Nailtech Co. Ltd.

Nanjing Caiqing Hardware Co., Ltd.

Nauri Logistics Co. Ltd.

NCL Container Lines Co. Ltd.

Neo Gls

Neptune Shipping Limited

Nexen L&C Corp.

OEC Freight Worldwide Korea Co. Ltd.

OEC Logistics Co., Ltd.

OEC World Wide Korea Co. Ltd.

Oman Fasteners LLC

Orient Express Container Co., Ltd.

Oriental Power Logistics Co. Ltd.

Overseas Distribution Services Inc.

Overseas International Steel Industry

Panalpina World Transport (PRC) Ltd.

Paslode Fasteners (Shanghai) Co. Ltd.

Promising Way (Hong Kong) Limited

Pudong Prime International Logistics, Inc.

Qingdao Chesire Trading Co. Ltd.

Qingdao D&L Group Ltd.

Qingdao Hongyuan Nail Industry Co. Ltd.

Qingdao Master Metal Products Co. Ltd.

Qingdao Meijialucky Industry and Commerce Co., Ltd.

Qingdao Mst Industry and Commerce Co., Ltd.

Qingdao Tiger Hardware Co., Ltd.

Ramses Logistics Company Limited

Regency Global Logistics Co., Ltd.

Ricoh Logistics System Co., Ltd.

Rise Time Industrial Co. Ltd.

Sam Un Co. Ltd.

Scanwell Container Line Ltd.

Schenker

Schenker & CO AG

SDC International Australia PTY Ltd

Seamaster Global Forwarding

Seamaster Logistics Sdn Bhd

Sejung (China) Sea & Air Co., Ltd.

Shandong Dinglong Imp. & Exp. Co. Ltd.

Shandong Liaocheng Minghua Metal PR

Shandong Oriental Cherry Hardware Group Co. Ltd.

Shanghai Haoray International Trade Co. Ltd.

Shanghai Jade Shuttle Hardware Tools Co., Ltd.

Shanghai Line Feng Int'l Transportation Co. Ltd.

Shanghai Pinnacle International Trading Co., Ltd.

Shanghai Pudong International Transportation

Shanxi Pioneer Hardware Industry Co., Ltd.

Shanxi Tianli Industries Co., Ltd.

Shijiazhuang Shuangjian Tools Co. Ltd.

Shipping Imperial Co., Ltd.

Sino Connections Logistics Inc.

S-Mart (Tianjin) Technology Development Co., Ltd.

Sparx Logistics China Limited

Speedmark International Ltd.

Suntec Industries Co., Ltd.

Swift Freight (India) Pvt Ltd.

T.H.I. Group Ltd.

The Stanley Works (Langfang) Fastening System Co., Ltd.

Tianjin Bluekin Industries Limited

Tianjin Coways Metal Products Co.

Tianjin Free Trade Service Co. Ltd.

Tianjin Fulida Supply Co. Ltd.

Tianjin Huixinshangmao Co. Ltd.

Tianijn Hweschun Fasteners Manufacturing Co. Ltd.

Tianjin Jinchi Metal Products Co., Ltd.

Tianjin Long Sheng Tai

Tianjin M&C Electronics Co., Ltd.

Tianjin Wonderful International Trading

Tianjin Zehui Hardware Co. Ltd.

Tianjin Zhonglian Metals Ware Co. Ltd.

Tianjin Zhonglian Times Technology

Toll Global Forwarding Ltd.

Top Logistics Korea Ltd.

Top Ocean Consolidated Service Ltd.

Toyo Boeki Co. Ltd.

Trans Knights, Inc.

Translink Shipping, Inc.

Transwell Logistics Co. Ltd.

Transworld Transportation Co. Ltd.

Trim International Inc.

TTI Freight Forwarder Co. Ltd.

Unicorn (Tianjin) Fasteners Co., Ltd.

UPS SCS (China) Limited

Vanguard Logistics Services

W&K Corporation Limited

Weida Freight System Co. Ltd.

Woowon Sea & Air Co. Ltd.

Xi'an Metals and Minerals Imp. Exp. Co.

Xinjiayuan International Trade Co.

Xinjiayuan Trading Co., Limited

Youngwoo Fasteners Co., Ltd.

You-One Fastening Systems

Yumark Enterprises Corp.

Zhaoqing Harvest Nails Co. Ltd.

[FR Doc. 2018-14920 Filed 7-11-18; 8:45 am]

BILLING CODE 3510-DS-P